FEDERAL RESERVE SYSTEM

Agency Information Collection Activities: Announcement of Board Approval Under Delegated Authority and Submission to OMB

AGENCY: Board of Governors of the Federal Reserve System.

SUMMARY: Notice is hereby given of the final approval of proposed information collections by the Board of Governors of the Federal Reserve System (Board) under OMB delegated authority. Board-approved collections of information are incorporated into the official OMB inventory of currently approved collections of information. Copies of the Paperwork Reduction Act Submission, supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer—Nuha Elmaghrabi—Office of the Chief Data Officer, Board of Governors of the Federal Reserve System, Washington, DC 20551 (202) 452-3829. Telecommunications Device for the Deaf (TDD) users may contact (202) 263-4869, Board of Governors of the Federal Reserve System, Washington, DC 20551.

OMB Desk Officer—Shagufta Ahmed—Office of Information and Regulatory Affairs, Office of Management and Budget, New Executive Office Building, Room 10235, 725 17th Street NW., Washington, DC 20503.

Final approval under OMB delegated authority of the extension, without revision, of the following report:

Report title: Registration of a Securities Holding Company.

Agency form number: FR 2082.

OMB control number: 7100-0347.

Frequency: On occasion.

Reporters: Securities holding companies.

Estimated annual reporting hours: 40 hours.

Estimated average hours per response: 8 hours.

Number of respondents: 5.

General description of report: The FR 2082 is authorized pursuant to Section 618 of the Dodd-Frank Act (12 U.S.C. 1850a). The institutions' obligation to report is mandatory for companies that elect to register under Section 618. The confidentiality of the forms required to be filed pursuant to section 241.3(b)(3)(i) is covered in specific memoranda relating to those forms. With respect to the “Registration of a Securities Holding Company” form required pursuant to section 241.3(a)(1), the information submitted on and with the form is normally public. However, a company may seek confidential treatment for any such information that it believes is exempt from disclosure under FOIA (5 U.S.C. 552(b)(1)-(9)). A determination of confidentiality would be made on a case-by-case basis.

Abstract: On June 4, 2012, the Federal Reserve published a final rulemaking for Securities Holding Companies (Regulation OO) in the Federal Register (77 FR 32881). Regulation OO implements section 618 of the Dodd-Frank Act, which permits nonbank companies that own at least one registered securities broker or dealer, and that are required by a foreign regulator or provision of foreign law to be subject to comprehensive consolidated supervision, to register with the Board and subject themselves to supervision by the Board.

Current Actions: On July 23, 2015, the Federal Reserve published a notice in the Federal Register (80 FR 43777) requesting public comment on the proposed extension, without revision, of the FR 2082. The comment period for the notice expired on September 21, 2015. The Federal Reserve did not receive any comments on the proposal, and the FR 2082 will be extended without revision as proposed.

Final approval under OMB delegated authority of the extension, with revision, of the following report:

Report title: Request for Proposal and Request for Price Quotations.

Agency form number: RFP and RFPQ.

OMB control number: 7100-0180.

Frequency: On occasion.

Reporters: Vendors of goods and services.

Estimated annual reporting hours: RFP: 17,500 hours; RFPQ: 4,400 hours; Subcontractor report: 50 hours.

Estimated average hours per response: RFP: 50 hours; RFPQ: 2 hours; Subcontractor report: 20 minutes.

Number of respondents: RFP: 350; RFPQ: 2,200; Subcontractor report: 150.

General description of report: The RFP and RFPQ are required to obtain a benefit and are authorized by Sections 10(3), 10(4), and 11(1) of the Federal Reserve Act (12 U.S.C. 243, 244, and 248(l)). With regard to the Subcontracting Report, Section 342(c) of the Dodd-Frank Wall Street Reform and Consumer Protection Act (Dodd-Frank Act) requires the Federal Reserve to develop and implement standards and procedures to assess the diversity policies and practices in all business and activities of the agency at all levels, including procurement, insurance, and all types of contracts. (12 U.S.C. 5452(c)(1)). “Such procedure shall include a written statement, in a form and with such content as the Director [of OMWI] shall prescribe . . . that a contractor shall ensure . . . the fair inclusion of women and minorities in the workforce of the contractor and, as applicable, subcontractors.” (12 U.S.C. 5452(c)(2)).

Proposals from vendors that are not accepted and incorporated into contracts with the Federal Reserve would be protected from Freedom of Information (FOIA) disclosure by 41 U.S.C. 4702, which expressly prohibits FOIA disclosure of these proposals. Moreover, during the solicitation process vendors are permitted to mark information contained in their proposals that is proprietary or confidential with the label RESTRICTED DATA. For information so marked, the Federal Reserve also may determine on a case-by-case basis whether FOIA exemption 4, which applies to “trade secrets and commercial or financial information,” would protect information from disclosure pursuant to a FOIA request (5 U.S.C. 552(b)(4)).

Abstract: The Federal Reserve uses the RFP and the RFPQ as appropriate to obtain competitive proposals and contracts from approved vendors of goods and services. This information collection is required to collect data on prices, specifications of goods and services, and qualifications of prospective vendors.

Current Actions: On July 23, 2015, the Federal Reserve published a notice in the Federal Register (80 FR 43777) requesting public comment on the proposed extension, with revision, of the RFP and RFPQ. In connection with the RFP and RFPQ process, the Federal Reserve proposed to require prime contractors to submit a Subcontracting Report that would collect information about their subcontractors' commitments toward diversity and inclusion of minority-owned and women-owned vendors in the subcontractor's activities. The comment period for the notice expired on September 21, 2015. The Federal Reserve received one comment, which stated that contracting programs should be open to all and that no one should be discriminated against nor granted preferential treatment because of skin color, national origin, or sex. The RFP and RFPQ will be extended with revision as proposed.

Board of Governors of the Federal Reserve System, October 5, 2015.
Robert deV. Frierson,
Secretary of the Board.

[FR Doc. 2015-25664 Filed 10-7-15; 8:45 am]

BILLING CODE 6210-01-P